DEPARTMENT OF COMMERCE

International Trade Administration

[C-570-953]

Narrow Woven Ribbons With Woven Selvedge From the People's Republic of China: Preliminary Results of Countervailing Duty Administrative Review, Rescission in Part; 2020

AGENCY: Enforcement and Compliance, International Trade Administration, Department of Commerce.

SUMMARY: The U.S. Department of Commerce (Commerce) preliminarily determines that certain producers/exporters of narrow woven ribbons with woven selvedge (ribbons) from the People's Republic of China (China) received countervailable subsidies during the period of review (POR) January 1, 2020, through December 31, 2020. Interested parties are invited to comment on these preliminary results.

DATES: Applicable June 9, 2022.

FOR FURTHER INFORMATION CONTACT: Terre Keaton Stefanova, AD/CVD Operations, Office II, Enforcement and Compliance, International Trade Administration, U.S. Department of Commerce, 1401 Constitution Avenue NW, Washington, DC 20230; telephone: (202) 482-1280.

SUPPLEMENTARY INFORMATION:

Background

On November 5, 2021, Commerce published the notice of initiation of this administrative review.¹ For a complete description of the events that followed the initiation of this review, see the Preliminary Decision Memorandum.²

¹ See Initiation of Antidumping and Countervailing Duty Administrative Reviews, 86 FR 61121 (November 5, 2021); see also Initiation of Antidumping and Countervailing Duty Administrative Reviews, 86 FR 67685 (November 28, 2021).

² See Memorandum, “Decision Memorandum for the Preliminary Results of the 2020 Administrative Review of the Countervailing Duty Order on Narrow Woven Ribbons with Woven Selvedge from the People's Republic of China; and Rescission, in Part,” dated concurrently with, and hereby adopted by, this notice (Preliminary Decision Memorandum).

Scope of the Order ³

³ See Narrow Woven Ribbons With Woven Selvedge from the People's Republic of China: Countervailing Duty Order, 75 FR 53642 (September 1, 2010) (Order).

The products covered by the Order are narrow woven ribbons with woven selvedge from China. For a complete description of the scope of the Order, see the Preliminary Decision Memorandum.

Rescission of Administrative Review, in Part

Pursuant to 19 CFR 351.213(d)(1), Commerce will rescind an administrative review, in whole or in part, if the parties that requested a review withdraw the request within 90 days of the date of publication of the notice of initiation. We received a timely withdrawal of the request for review for Changtai Rongshu Textile Co., Ltd. (Changtai Rongshu) and Yangzhou Bestpak Gifts and Crafts Co., Ltd. (Yangzhou Bestpak) from Berwick Offray LLC and its wholly-owned subsidiary, Lion Ribbon Company LLC (collectively, the petitioner) and no other party requested a review of these companies.⁴ Therefore, in accordance with 19 CFR 351.213(d)(1), Commerce is rescinding this administrative review of the Order with respect to Changtai Rongshu and Yangzhou Bestpak.

⁴ See Petitioner's Letter, “Partial Withdrawal of Request for Administrative Review,” dated February 3, 2022.

In addition, pursuant to 19 CFR 351.213(d)(3), Commerce's practice is to rescind an administrative review of a countervailing duty order when there are no reviewable entries of subject merchandise during the POR for which liquidation is suspended.⁵ Normally, upon completion of an administrative review, the suspended entries are liquidated at the countervailing duty assessment rate calculated for the review period.⁶ Therefore, for an administrative review of a company to be conducted, there must be a reviewable, suspended entry that Commerce can instruct U.S. Customs and Border Protection (CBP) to liquidate at the calculated countervailing duty assessment rate calculated for the review period.⁷

⁵ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

⁶ See 19 CFR 351.212(b)(2).

⁷ See 19 CFR 351.213(d)(3).

According to the CBP data, 113 of the companies subject to this review for which the request for review was not withdrawn did not have reviewable entries of subject merchandise during the POR for which liquidation is suspended.⁸ Therefore, we notified all interested parties of our intent to rescind this review with respect to these companies and provide parties an opportunity to submit comments, including factual information to demonstrate whether there were reviewable entries during the POR for these companies.⁹ No interested party filed comments regarding our intent to rescind this review for these companies. Accordingly, in accordance with 19 CFR 351.213(d)(3), in the absence of reviewable, suspended entries of subject merchandise during the POR by these 113 companies, Commerce is also rescinding this administrative review with respect to these companies.¹⁰

⁸ See Appendix II.

⁹ See Memorandum, “Notice of Intent to Rescind Review, in Part,” dated March 14, 2022.

¹⁰ See Appendix II.

Methodology

Commerce is conducting this administrative review in accordance with section 751(a)(1)(A) of the Tariff Act of 1930, as amended (the Act). In reaching these preliminary results, Commerce relied on facts otherwise available, with the application of adverse inferences.¹¹ For further information, see “Use of Facts Otherwise Available and Application of Adverse Inferences” in the accompanying Preliminary Decision Memorandum.

¹¹ See section 776 of the Act.

For a full description of the methodology underlying our conclusions, see the Preliminary Decision Memorandum. A list of topics included in the Preliminary Decision Memorandum is provided as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Rate for Companies Not Selected for Individual Review

The statute and Commerce's regulations do not address what rate to apply to respondents which are not selected for individual examination when Commerce limits its examination in an administrative review pursuant to section 777A(e)(2) of the Act. Generally, Commerce looks to section 705(c)(5) of the Act, which provides instructions for calculating the all-others rate in an investigation, for guidance when calculating the rate for non-selected respondents that are not examined individually in an administrative review. Section 705(c)(5)(A)(i) of the Act states that the all-others rate should be calculated by averaging the weighted-average countervailable subsidy rates for individually-examined respondents, excluding rates that are zero, de minimis, or based entirely on facts available. Section 705(c)(5)(A)(ii) of the Act provides that where all rates are zero, de minimis, or based entirely on facts available, Commerce may use “any reasonable method” for assigning a rate to non-examined respondents.

In this review, we have preliminarily determined a rate based entirely on facts available for the sole mandatory respondent, Yama Ribbons and Bows Co., Ltd. In countervailing duty proceedings, where the number of respondents individually examined has been limited, Commerce has determined that a “reasonable method” to determine the rate applicable to companies not individually examined when all the rates of selected mandatory respondents are zero, de minimis, or based entirely on facts available, is to assign to the non-selected respondents the average of the most recently determined rates that are not zero, de minimis, or based entirely on facts available. In the most recently completed administrative review of the Order, we calculated a countervailable subsidy rate of 42.20 percent for Yama Ribbons and Bows Co., Ltd., the sole mandatory respondent, that was not based entirely on facts available.¹² Thus, consistent with Commerce's past practice, we preliminarily assigned to the non-individually examined respondents the rate calculated for Yama in the 2018 administrative review (i.e., 42.20 percent).

¹² See Narrow Woven Ribbons with Woven Selvedge from the People's Republic of China: Final Results of Countervailing Duty Administrative Review; 2018, 86 FR 40462 (July 28, 2021).

Preliminary Results of Review

We preliminarily determine the following net countervailable subsidy rates for the period January 1, 2020, through December 31, 2020:

Producers/exporters | Net countervailable subsidy rate (percent)
Stribbons (Guangzhou) Ltd. aka MNC Stribbons | 42.20
Xiamen Lude Ribbons And Bows Co., Ltd | 42.20
Yama Ribbons and Bows Co., Ltd | 176.95

Public Comment

Case briefs or other written comments may be submitted to the Assistant Secretary for Enforcement and Compliance no later than 30 days after the publication of these preliminary results of review in the Federal Register.¹³ Rebuttal comments, limited to issues raised in case briefs, may be submitted no later than seven days after the deadline for filing case briefs.¹⁴ Parties who submit case or rebuttal briefs in this administrative review are encouraged to submit with each argument: (1) a statement of the issue; (2) a brief summary of the argument; and (3) a table of authorities.¹⁵ Case and rebuttal briefs must be filed using ACCESS.¹⁶ An electronically filed document must be received successfully in its entirety by ACCESS by 5:00 p.m. Eastern Time on the established deadline. Note that Commerce has temporarily modified certain of its requirements for serving documents containing business proprietary information, until further notice.¹⁷

¹³ See 19 CFR 351.309(c).

¹⁴ See 19 CFR 351.309(d).

¹⁵ See 19 CFR 351.309(c)(2) and 351.309(d)(2).

¹⁶ See 19 CFR 351.303.

¹⁷ See 19 CFR 351.309; see also 19 CFR 351.303 (for general filing requirements); and Temporary Rule Modifying

AD/CVD Service Requirements Due to COVID-19; Extension of Effective Period, 85 FR 41363 (July 10, 2020).

Pursuant to 19 CFR 351.310(c), interested parties who wish to request a hearing, limited to issues raised in the case and rebuttal briefs, must do so within 30 days after the publication of these preliminary results by submitting a written request to the Assistant Secretary for Enforcement and Compliance using ACCESS. Hearing requests should contain: (1) the party's name, address, and telephone number; (2) the number of participants; and (3) a list of the issues to be discussed. Issues addressed at the hearing will be limited to those raised in the briefs. If a request for a hearing is made, Commerce will inform parties of the scheduled date for the hearing.¹⁸

¹⁸ See 19 CFR 351.310.

Unless the deadline is extended pursuant to section 751(a)(3)(A) of the Act, we intend to issue the final results of this administrative review, including the results of our analysis of the issues raised by the parties in their case briefs, within 120 days after issuance of these preliminary results of this administrative review.

Assessment Rates

Consistent with section 751(a)(1) of the Act and 19 CFR 351.212(b)(2), upon issuance of the final results, Commerce will determine, and CBP shall assess, countervailing duties on all appropriate entries covered by this review. We intend to issue instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies for which we have rescinded this administrative review, countervailing duties shall be assessed at rates equal to the cash deposit of estimated countervailing duties required at the time of entry, or withdrawal from warehouse, for consumption, during the period January 1, 2020, through December 31, 2020, in accordance with 19 CFR 351.212I(1)(i). Commerce intends to issue appropriate assessment instructions directly to CBP no earlier than 35 days after the date of publication of this notice in the Federal Register.

Cash Deposit Requirements

In accordance with section 751(a)(2)(C) of the Act, Commerce also intends to instruct CBP to collect cash deposits of estimated countervailing duties in the amounts shown for each of the respective companies listed above with regard to shipments of subject merchandise entered, or withdrawn from warehouse, for consumption on or after the date of publication of the final results of this review. For all non-reviewed firms, CBP will continue to collect cash deposits of estimated countervailing duties at the all-others rate or the most recent company-specific rate applicable to the company, as appropriate. These cash deposit requirements, when imposed, shall remain in effect until further notice.

Notification to Interested Parties

We are issuing and publishing these preliminary results in accordance with sections 751(a)(1) and 777(i)(1) of the Act, and 19 CFR 351.221(b)(4).

Dated: June 2, 2022.
Lisa W. Wang,
Assistant Secretary for Enforcement and Compliance.

Appendix I—List of Topics Discussed in the Preliminary Decision Memorandum

I. Summary

II. Background

III. Partial Rescission of Administrative Review

IV. Scope of the Order

V. Use of Facts Otherwise Available and Application of Adverse Inferences

VI. Rate for Non-Selected Companies

VII. Recommendation

Appendix II—Companies Without POR Entries

1. Amadeus Textile Ltd.

2. Amsun Industrial Co., Ltd.

3. Beauty Horn Investment Limited

4. Bestpak Gifts and Crafts Co., Ltd.

5. Billion Trend International Ltd.

6. Changle Huanyu Ribbon Weaving Co., Ltd.

7. Changle Ruixiang Webbing Co., Ltd.

8. Cheng Xeng Label Mfg. Co.

9. Complacent Industrial Co. Ltd. (HK)

10. Creative Design Ltd.

11. Dongguan Qaotou Sheng Feng Decoration Factory

12. Dongguan Yi Sheng Decoration Co., Ltd.

13. Dragon Max Weaving & Accessories Company

14. East Sun Gift & Crafts Factory

15. Fasheen Accessories Co. Ltd.

16. Fly Dragon (Guang zhou) Imports & Exports trading co., Ltd

17. Fuhua Industrial Co., Ltd

18. Fujian Rongshu Industry Co., Ltd.

19. Fujian Shi Lian Da Garment Accessories Co., Ltd.

20. Fujian Xin Shen Da Weaving Ribbons Co., Ltd.

21. Fujian Xinshengda Weaving Ribbons Co., Ltd.

22. Fung Ming Ribbon Ind Ltd

23. Goodyear Webbing Products Co., Ltd.

24. Gordon Ribbons & Trimmings Co., Ltd.

25. Guangzhou Complacent Weaving Co Ltd

26. Guangzhou Leiyu Trade Co., Ltd.

27. Guangzhou Liman Ribbon Factory

28. Guangzhou Mafolen Ribbons & Bows Ltd

29. Guangzhou String Textile Accessories Co., Ltd.

30. Hubscher Ribbon Corp., Ltd. (d/b/a Hubschercorp)

31. Huian Huida Webbing Co., Ltd.

32. Huzhou Linghu Tianyi Tape Co., Ltd.

33. Huzhou Unifull Label Fabric Co., Ltd.

34. Jian Chang Ind. Co., Ltd.

35. Jiangyin Lilai Tape Co., Ltd.

36. Jufeng Ribbon Co. Ltd.

37. Kaiping Qifan Weaving Co., Ltd.

38. King's Pipe Cleaner's Ind. Inc aka King's Crafts (China) Ltd (aka King's Pipe Cleaner's, Ind. Inc)

39. Kinstarlace & Embroidery Co.

40. Kunshan Dah Mei Weaving Co. Ltd.

41. Lace Fashions Industrial Co. Ltd.

42. Linghu Jiacheng Silk Ribbon Co., Ltd.

43. Ningbo Bofa Co., Ltd

44. Ningbo Flowering Crafts Co., Ltd.

45. Ningbo Hongshine Decorative Packing Industrial Co. Ltd. aka Ningbo Hongrun Craft and Ornament Factory

46. Ningbo Jinfeng Thread & Ribbon Co. Ltd.

47. Ningbo MH Industry Co., Ltd.

48. Ningbo R&D Ind Company

49. Ningbo Sunshine Import & Export Co. Ltd

50. Ningbo V.K. Industry and Trading Co., Ltd.

51. Ningbo Wanhe Industry Co., Ltd.

52. Ningbo XWZ Ribbon Manufactory

53. Ningbo Yinzhou Hengcheng Ribbon Factory

54. Ningbo Yinzhou Jinfeng Knitting Factory

55. PROTEX Co., ltd

56. Qingdao Cuifengyuan Industrial and Trading Co., Ltd.

57. Qingdao Haili Lace & Ribbon Co., Ltd.

58. Qingdao Hileaders Co., Ltd.

59. RizeStar Weaving Ribbon Factory

60. Shandong Hileaders Industrial Co., Ltd.

61. Shanghai Dae Textile International Co., Ltd.

62. Shanghai E & T Jawa Import & Export Co. Ltd.

63. ShaoXing Haiyue Gifts Co. Ltd.

64. Shenq Sin Company Ltd.

65. Shenzhen Bostrip Crafts Co. Ltd.

66. Shenzhen Candour Belt & Tape Co., Ltd.

67. Shenzhen Jinpin Gifts & Crafts Factory

68. Shenzhen Lucky Star Craft Co., Ltd.

69. Shenzhen Weiyi Crafts Technology Co., Ltd.

70. Shenzhen Yibao Gifts Co. Ltd.

71. Shishi Lifa Computer Woven Label Co., Ltd.

72. Shuanglin Label

73. Sinopak Gifts & Crafts Co., Ltd

74. Stribbons (Nanyang) MNC Ltd.

75. String Textile Accessories Co., Ltd.

76. Success Charter Enterprise Limited

77. Sun Rich (Asia) Limited

78. Sungai Garment Accessories Co., Ltd.

79. Tianjin Sun Ribbon Company Ltd aka Tian Jin Sun Ribbon Company Ltd.

80. Weifang Aofulon Weaving Company Ltd.

81. Weifang Chenrui Textile Co., Ltd.

82. Weifang Dongfang Ribbon Weaving Co. Ltd.

83. Weifang Jiacheng Webbing Co., Ltd.

84. Weifang Jinqi Textile Co., Ltd.

85. Weifang Yuyuan Textile Co. Ltd.

86. Wenzhou GED Industrial Co. Ltd.

87. Wiefang Shicheng Ribbon Factory

88. Wing Tat Haberdashery Co. Ltd aka Wing Hiang Belt Weaving Ltd.

89. Xiamen Bailuu Thread Manufacture Co., Ltd.

90. Xiamen Bethel Ribbon & Trims Co., Ltd.

91. Xiamen Boca Ribbons & Crafts Co., Ltd.

92. Xiamen Egret Thread Manufacturing Co., Ltd.

93. Xiamen Especial Industrial Co., Ltd.

94. Xiamen Lianglian Ribbons & Bows Co., Ltd

95. Xiamen Linji Ribbons & Bows Co., Ltd.

96. Xiamen Midi Ribbons & Crafts Co., Ltd.

97. Xiamen Rainbow Gifts & Packs Co., Ltd.

98. Xiamen Sanling Ribbon Packing Co., Ltd.

99. Xiamen ShangPeng Weaving Ribbon Factory

100. Xiamen Sling Ribbon & Bows Co., Ltd.

101. Xiamen Yi He Textile Co., Ltd. (d/b/a Roungshu Ribbon)

102. Yi Jia Trimmings Accessories & Supplies/Dong Guan WSJ Weaving Factory Limited

103. Yiwu Baijin Belt Co., Ltd.

104. Yiwu City Pingzhan Weaving Ribbon Factory

105. Yiwu Dong Ding Ribbons Co., Ltd.

106. Yiwu Ruitai Webbing Factory

107. Yiwu Yunli Tape Co., Ltd.

108. Yuanhong Garment Accessory Co., Ltd.

109. Yuyao Warp & Weft Tape Weaving Co., Ltd.

110. Zenith Garment Accessories Co., Ltd.

111. Zhejiang Chengxin Weaving Co., Ltd.

112. Zhejiang Sanding Weaving Co. Ltd.

113. Zibo All Webbing Co., Ltd.

[FR Doc. 2022-12427 Filed 6-8-22; 8:45 am]

BILLING CODE 3510-DS-P